DEPARTMENT OF THE INTERIOR

Bureau of Land Management

[CA-930-1430-ET; CACA 583, CACA 7767, CARI 3649, CARI 07692, and CACA 40671]

Public Land Order No. 7447; Transfer of Jurisdiction to the National Park Service; Partial Revocation of Executive Order dated February 26, 1852 and Public Land Order No. 4883, and Revocation of Public Land Order No. 5234; California

AGENCY: Bureau of Land Management, Interior.

ACTION: Public land order.

SUMMARY: This order partially revokes an Executive order and a public land order insofar as they affect 18.72 acres of lands withdrawn for use by the Department of the Navy for military purposes and revokes another public land order in its entirety, which withdrew 6.88 acres for the National Park Service. The 18.72 acres are no longer needed for military purposes and the revocation of the 6.88 acres is a record-clearing action only. This order also permanently transfers the jurisdiction of all 25.60 acres to the National Park Service, for inclusion into the Cabrillo National Monument. The transferred lands and their related resource uses will be managed under the laws and regulations appropriate to a national monument.

EFFECTIVE DATE: July 3, 2000.

FOR FURTHER INFORMATION CONTACT: Duane Marti, BLM California State Office (CA-931.4), 2800 Cottage Way, Sacramento, California 95825, 916-978-4675 or Gary Chulla, National Park Service, Pacific Land Resources Program Center, Pacific West Region, 600 Harrison Street, Suite 600, San Francisco, California 94107-1372, 415-427-1410.

By virtue of the authority vested in the Secretary of the Interior by Section 204 of the Federal Land Policy and Management Act of 1976, 43 U.S.C. 1714 (1994), it is ordered as follows:

1. The Executive Order dated February 26, 1852, and Public Land Order No. 4883, which withdrew public lands for military purposes are hereby revoked insofar as they affect the following described lands:

San Bernardino Meridian

(a) Bayside Trail

Those portions of lot 39 in T. 17 S., R. 3 W., and lot 37 in T. 17 S., R. 4 W., more particularly described in the notice published in the Federal Register on October 26, 1999 (64 FR 57650). The area described contains approximately 2.72 acres in San Diego County.

(b) Point Loma TIdepool Area

A portion of lot 37 in T. 17 S., R. 4 W., more particularly described in the notice published in the Federal Register on October 26, 1999 (64 FR 57650). The area described contains approximately 16 acres in San Diego County.

2. Public Land Order No. 5234, which withdrew public land for the National Park Service, is hereby revoked in its entirety as to the following described land:

San Bernardino Meridian

Point Loma Maintenance Area

A portion of lot 37 in T. 17 S., R. 4 W., more particularly described in Public Land Order No. 5234 published in the Federal Register on July 21, 1972 (37 FR 14571).

The area described contains approximately 6.88 acres in San Diego County.

3. Subject to valid existing rights, the administrative jurisdiction of the lands described in paragraphs 1(a), 1(b), and 2, and their related resource uses are hereby permanently transferred to the National Park Service. These lands and their related resource uses shall be managed as part of the Cabrillo National Monument and shall thereafter be subject to all laws and regulations applicable thereto. As a result of this transfer, the lands will not be opened and they are no longer subject to the operation of the general land laws, including the mining and the mineral leasing laws.

4. Pursuant to an agreement between the Department of the Navy and the National Park Service, the Navy may continue to use the Bayside Trail provided such use does not materially interfere with the use of said trail by the National Park Service in their management of the Cabrillo National Monument.

5. The transfer of jurisdiction for the land described as the Point Loma Maintenance Area made by this order is in furtherance of, and subject to the provisions of that certain Memorandum of Agreement, dated January 12, 1970, entered into between the Commander, Naval Electronics Laboratory Center, and Commander, Naval Undersea Research and Development Center, Department of the Navy, and the Superintendent, Cabrillo National Monument, National Park Service, Department of the Interior, as may be amended or supplemented.

Dated: May 22, 2000.
Sylvia V. Baca,
Assistant Secretary of the Interior.

[FR Doc. 00-13862 Filed 6-1-00; 8:45 am]

BILLING CODE 4310-40-P